DEPARTMENT OF COMMERCE

Foreign-Trade Zones Board

[Docket 32-2002]

Foreign-Trade Zone 219—Yuma, Arizona; Application for Expansion

An application has been submitted to the Foreign-Trade Zones (FTZ) Board (the Board) by the Yuma County Airport Authority, Inc., grantee of Foreign-Trade Zone 219, requesting authority to expand FTZ 219, Yuma, Arizona, to include an additional site within the San Luis Customs port of entry. The application was submitted pursuant to the provisions of the Foreign-Trade Zones Act, as amended (19 U.S.C. 81a-81u), and the regulations of the Board (15 CFR Part 400). It was formally filed on August 14, 2002.

FTZ 219 was approved by the Board on April 2, 1997 (Board Order 874, 62 FR 17580, 4/10/97), and expanded on April 5, 2001 (Board Order 1161, 66 FR 19422, 4/16/01). The zone project currently consists of two parcels (125 acres) within the Yuma International Airport complex (Site 1), 2191 East 32nd Street, Yuma.

The applicant is now requesting authority to expand the general-purpose zone to include an additional site (95 acres) in Yuma: Proposed Site 2 (95 acres)—Yuma Commerce Center, approximately 5 miles east of the Yuma International Airport on Business Loop Interstate 8. The site is owned by the Ingold Family Limited Partnership/Sun River Investment Properties. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submission via Express/Package Delivery Services: Foreign-Trade Zones Board U.S. Department of Commerce, Franklin Court Building—Suite 4100W, 1099 14th Street, NW, Washington, DC 20005; or

2. Submissions via the U.S. Postal Service: Foreign-Trade Zones Board, U.S. Department of Commerce, FCB—Suite 4100W, 1401 Constitution Avenue, NW, Washington, DC 20230.

The closing period for their receipt is October 21, 2002. Rebuttal comments in response to material submitted during the foregoing period may be submitted during the subsequent 15-day period (to November 4, 2002).

A copy of the application and accompanying exhibits will be available during this time for public inspection at the Office of the Foreign-Trade Zones Board's Executive Secretary at address Number 1 listed above, and at the Yuma Main Library, 350 South 3rd Avenue, Yuma, Arizona 85364.

Dated: August 14, 2002.
Dennis Puccinelli,
Executive Secretary.

[FR Doc. 02-21328 Filed 8-20-02; 8:45 am]

BILLING CODE 3510-DS-P